NUCLEAR REGULATORY COMMISSION

[Docket No. 72-1051; NRC-2018-0052]

Holtec International HI-STORE Consolidated Interim Storage Facility Project

AGENCY: Nuclear Regulatory Commission.

ACTION: Environmental impact statement, Supplement 1; issuance.

SUMMARY: The U.S. Nuclear Regulatory Commission (NRC) is issuing Supplement 1 to a final Environmental Impact Statement (FEIS), NUREG-2237, “Environmental Impact Statement for the Holtec International's License Application for a Consolidated Interim Storage Facility for Spent Nuclear Fuel in Lea County, New Mexico.” Supplement 1 to NUREG-2237 updates the responses to public comments by adding responses to certain comments that were inadvertently not included in the FEIS. Supplement 1 does not include any changes to impact analysis or determinations. Holtec International (Holtec) has requested a license to construct and operate a consolidated interim storage facility (CISF) for spent nuclear fuel (SNF) and Greater-Than-Class C (GTCC) waste, along with a small quantity of mixed oxide (MOX) fuel. The proposed CISF would be located in southeast New Mexico at a site located approximately halfway between the cities of Carlsbad and Hobbs. The proposed action is the issuance of an NRC license authorizing a CISF to store up to 8,680 metric tons of uranium (MTUs) [9,568 short tons] of SNF in 500 canisters for a license period of 40 years.

DATES: The FEIS Supplement 1 referenced in this document is available on October 27, 2022.

ADDRESSES: Please refer to Docket ID NRC-2018-0052 when contacting the NRC about the availability of information regarding this document. You may obtain publicly available information related to this document using any of the following methods:

• Federal Rulemaking website: Go to https://www.regulations.gov and search for Docket ID NRC-2018-0052. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The FEIS is available in ADAMS under Accession No. ML22299A238.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. Eastern Time (ET), Monday through Friday, except Federal holidays.

• Project Web page: Information related to the Holtec CISF project can be accessed on the NRC's project web page at https://www.nrc.gov/waste/spent-fuel-storage/cis/holtec-international.html. Scroll down to the Section “Environmental Impact Statement—Supplement 1.”

• Public Libraries: A copy of the FEIS will be made available at the following public libraries:

Carlsbad Public Library, 101 S Halaqueno Street, Carlsbad, NM 88220

Roswell Public Library, 301 N Pennsylvania, Roswell, NM 88201

Hobbs Public Library, 509 N Shipp Street, Hobbs, NM 88240

FOR FURTHER INFORMATION CONTACT: Jill S. Caverly, Office of Nuclear Material Safety and Safeguards, U.S. Nuclear Regulatory Commission, Washington, DC 20555-0001, telephone: 301-415-7674, email: Jill.Caverly@nrc.gov.

SUPPLEMENTARY INFORMATION:

I. Background

In accordance with section 51.118 of title 10 of the Code of Federal Regulations (10 CFR) “Final environmental impact statement—notice of availability,” the NRC is making available NUREG-2237 Supplement 1, which concerns the NRC's FEIS for the license application submitted by Holtec to construct and operate a CISF for SNF and GTCC waste, along with a small quantity of MOX fuel, which are collectively referred to in the EIS as SNF and composed primarily of spent uranium-based fuel. The NRC published the FEIS (NUREG-2237) in the Federal Register on July 22, 2022 (87 FR 43905), and the U.S. Environmental Protection Agency noticed the availability of the FEIS on July 22, 2022 (87 FR 43848). Supplement 1 to NUREG-2237 updates the responses to public comments by adding responses to certain comments that were inadvertently not included in the FEIS.

II. Discussion

The NRC issued the FEIS for an application from Holtec requesting a license to authorize construction and operation of a CISF for SNF at a site located halfway between Carlsbad and Hobbs, New Mexico. The proposed CISF project would be built and operated on approximately 421 hectares (ha) [1,040 acres (ac)] of land in Lea County, New Mexico. The storage and operations area, which is a smaller land area within the full property boundary, would include 134 ha [330 ac] of disturbed land. The proposed project area is approximately 51 kilometers (km) [32 miles (mi)] east of Carlsbad, New Mexico, and 54 km [34 mi] west of Hobbs, New Mexico. The proposed action is the issuance of an NRC license authorizing a CISF to store up to 8,680 MTUs [9,568 short tons] in 500 canisters of SNF for a license period of 40 years.

After publication of the FEIS, the staff identified that two comment letters, which were submitted to the NRC during the draft EIS comment period, were inadvertently not included in Appendix D to the final EIS. The comment letters were discovered after the publication of the final EIS in July 2022. The Supplement 1 to the final EIS responds to these two comment letters and documents the NRC's evaluation of each of these comment letters that were not included in the final EIS. While the comments do not provide new and significant information regarding the project or its environmental impacts, the NRC staff is of the opinion that, in view of the circumstances described in this notice, and in accordance with 10 CFR 51.92(c), preparation of Supplement 1 to the final EIS will further the purposes of the National Environmental Policy Act of 1969, as amended. Supplement 1 does not include any changes to impact analysis or determinations; therefore, the recommendation in the FEIS remains the same.

Dated: October 28, 2022.
For the Nuclear Regulatory Commission.
John M. Moses,
Deputy Director, Division of Rulemaking, Environmental, and Financial Support, Office of Nuclear Material Safety, and Safeguards.

[FR Doc. 2022-23847 Filed 11-3-22; 8:45 am]

BILLING CODE 7590-01-P